DEPARTMENT OF COMMERCE

Bureau of Industry and Security

Materials Technical Advisory Committee; Notice of Partially Closed Meeting

The Materials Technical Advisory Committee will meet on April 8, 2003, 10:30 a.m., Herbert C. Hoover Building, Room 3884, 14th Street between Constitution & Pennsylvania Avenues, NW., Washington, DC. The Committee advises the Office of the Assistant Secretary for Industry and Security with respect to technical questions that affect the level of export controls applicable to materials and related technology.

Agenda

Public Session

1. Opening remarks and introductions.

2. Presentation of papers and comments by the public.

3. Discussion on list of chemicals proposed for the Australia Group control list:

Tri-isopropyl phosphite (CAS # 116-17-6)

Di-isopropopyl phosphite (CAS # 1809-20-7)

Methylphosphonic acid (CAS # 993-13-5)

Oxalyl chloride [ethanedioyl dichloride] (CAS # 79-37-8)

Diethyl methylphosphonate (CAS # 683-08-9)

N, N-Dimethylamido phosphoryldichloride [dimethylphosphoramidic dichloride] (CAS # 677-43-0)

Thiophosphoryl chloride (CAS # 3982-91-0)

Closed Session

4. Discussion of matters properly classified under Executive Order 12958, dealing with U.S. export control programs and strategic criteria related thereto.

A limited number of seats will be available during the public session of the meeting. Reservations are not accepted. To the extent time permits, members of the public may present oral statements to the Committee. Written statements may be submitted at any time before or after the meeting. However, to facilitate distribution of public presentation materials to Committee members, the materials should be forwarded prior to the meeting to the following address: Ms. Lee Ann Carpenter, OSIES/EA/BIS MS: 3876, U.S. Department of Commerce, 14 St. and Constitution Ave., NW., Washington, DC 20230.

The Assistant Secretary for Administration, with the concurrence of the delegate of the General Counsel, formally determined on February 6, 2002, pursuant to section 10(d) of the Federal Advisory Committee Act, as amended, that the series of meetings or portions of meetings of the Committee and of any Subcommittee thereof dealing with the classified materials listed in 5 U.S.C. 552(c)(1) shall be exempt from the provisions relating to public meetings found in section 10(a)(1) and (a)(3) of the Federal Advisory Committee Act. The remaining series of meetings or portions thereof will be open to the public. For more information, call Lee Ann Carpenter at (202) 482-2583.

Dated: March 14, 2003.
Lee Ann Carpenter,
Committee Liaison Officer.

[FR Doc. 03-6513 Filed 3-18-03; 8:45 am]

BILLING CODE 3510-JT-M